DEPARTMENT OF COMMERCE

International Trade Administration

[Application No. 99-10A005]

Export Trade Certificate of Review

ACTION: Notice of Issuance of an amended Export Trade Certificate of Review to the California Almond Export Association, LLC (“CAEA”) (Application No. 99-10A005).

SUMMARY: The Secretary of Commerce, through the Office of Trade and Economic Analysis (“OTEA”), issued an amended Export Trade Certificate of Review to the California Almond Export Association on November 24, 2015. The Certificate has now been amended ten times. The most recent previous amendment was issued to CAEA on August 17, 2015, and a notice of its issuance was published in the Federal Register on September 1, 2015 (80 FR 52738).

FOR FURTHER INFORMATION CONTACT: Joseph E. Flynn, Director, Office of Trade and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. An Export Trade Certificate of Review protects the holder and the members identified in the Certificate from State and Federal government antitrust actions and from private treble damage antitrust actions for the export conduct specified in the Certificate and carried out in compliance with its terms and conditions.

The regulations implementing Title III are found at 15 CFR part 325 (2015).

OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

CAEA's Export Trade Certificate of Review has been amended to:

Add the following new Member of the Certificate within the meaning of section 325.2(1) of the Regulations (15 CFR 325.2(1)): California Gold Almonds, Modesto, CA.

CAEA's Export Trade Certificate of Review complete amended Membership is listed below:

Almonds California Pride, Inc., Caruthers, CA

Baldwin-Minkler Farms, Orland, CA

Blue Diamond Growers, Sacramento, CA

California Gold Almonds, Modesto, CA

Campos Brothers, Caruthers, CA

Chico Nut Company, Chico, CA

Del Rio Nut Company, Inc., Livingston, CA

Fair Trade Corner, Inc., Chico, CA

Fisher Nut Company, Modesto, CA

Hilltop Ranch, Inc., Ballico, CA

Hughson Nut, Inc., Hughson, CA

Mariani Nut Company, Winters, CA

Nutco, LLC d.b.a. Spycher Brothers, Turlock, CA

Paramount Farms, Inc., Los Angeles, CA

P-R Farms, Inc., Clovis, CA

Roche Brothers International Family Nut Co., Escalon, CA

RPAC Almonds, LLC, Los Banos, CA

South Valley Almond Company, LLC, Wasco, CA

Sunny Gem, LLC, Wasco, CA

Western Nut Company, Chico, CA

Dated: December 4, 2015.
Joseph E. Flynn,
Director, Office of Trade and Economic Analysis.

[FR Doc. 2015-31191 Filed 12-9-15; 8:45 am]

BILLING CODE 3510-DR-P